DEPARTMENT OF JUSTICE

Notice of Lodging of Consent Decree Pursuant to the Comprehensive Environmental Response, Compensation and Liability Act

In accordance with Department of Justice policy codified at 28 CFR 50.7 and section 122 of the Comprehensive Environmental Response, Compensation and Liability Act of 1980, as amended (“CERCLA”), 42 U.S.C. 9622, notice is hereby given that on December 20, 2000, a proposed consent decree in United States v. Dayton Power & Light Co., et al., No. C-3-98-451, was lodged with the United States District Court for the Southern District of Ohio. The consent decree represents a settlement of claims against Robert B. Snyder and the Robert L. Snyder Trust (collectively, “Settling Defendants”) under CERCLA § 107(a), 42 U.S.C. § 9607(a), for the recovery of response costs incurred or to be incurred by the United States in connection with the Sanitary Landfill (IWD) Superfund Site (“Site”) in Moraine, Ohio. Each of the Settling Defendants is an owner and operator of the Site, which was operated as a licensed landfill by Sanitary Landfill Company and its successor corporations from 1971 to 1980. The U.S. Environmental Protection Agency incurred costs of approximately $1.2 million in responding to the release or threatened release of hazardous substances at the Site. Under the terms of the consent decree, the Settling Defendants agree to pay to the United States $10,000 in response costs within thirty (30) days of entry of the consent decree. In consideration for this payment, the Settling Defendants will receive a covenant not to sue for Site response costs and contribution protection. The settlement is based on the Settling Defendants' limited ability to pay.

For a period of thirty (30) days from the date of this publication, the Department of Justice will receive comments relating to the proposed consent decree. Comments should be addressed to the Assistant Attorney General, Environment and Natural Resources Division, U.S. Department of Justice, 950 Pennsylvania Avenue, NW, Washington, DC 20530, and should refer to United States v. Dayton Power & Light Co., et al., Civil Action No. C-3-98-451; D.J. Ref. No. 90-11-2-1113A.

The consent decree may be examined at the Office of the United States Attorney, 602 Federal Building, 200 W. 2nd Street, Dayton, Ohio 45402, and at the U.S. Environmental Protection Agency, Region 5, 77 West Jackson Boulevard, Chicago, Illinois 60604. A copy of the consent decree may also be obtained by mail from the Consent Decree Library, P.O. Box 7611, U.S. Department of Justice, Washington, DC 20044-7611. In requesting a copy, please enclose a check in the amount of $5.25 (21 pages at 25 cents per page reproduction cost).

Bruce S. Gelber,
Chief, Environmental Enforcement Section, Environment and Natural Resources Division.

[FR Doc. 01-918 Filed 1-10-01; 8:45 am]

BILLING CODE 4410-15-M